ENVIRONMENTAL PROTECTION AGENCY

[FAL-7647-1]

Riverhills Battery Superfund Site; Notice of Settlement

AGENCY: Environmental Protection Agency.

ACTION: Notice of settlement.

SUMMARY: Under Section 122(i) of the Comprehensive Environmental Response, Compensation, and Liability Act (CERCLA), the Environmental Protection Agency (EPA) has entered into an Agreement for proposed settlement of past and future response cost at the Riverhills Battery Superfund Site (Site) located in Tampa, Hillsborough County, Florida, with Gulf Coast Lead, and Gulf Coast Recycling, Inc. EPA will consider public comments on paragraphs Thirty-Six (36) and Thirty-Seven (37) of the Agreement until May 13, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Avenue, SW., Atlanta, Georgia 30303, Batchelor.Paula@EPA.Gov, (404 562-8887.

Written comments may be submitted to Ms. Batchelor at the above address within 30 days of the date of publication.

Dated: March 25, 2004.
Rosalind H. Brown,
Chief, Superfund Enforcement & Information Management Branch, Waste Management Division.

[FR Doc. 04-8313 Filed 4-12-04; 8:45 am]

BILLING CODE 6560-50-M